DEPARTMENT OF STATE

[Public Notice 3691]

Bureau of Educational and Cultural Affairs Request for Grant Proposals: Ukrainian Media Partnership Program

SUMMARY: The Europe/Eurasia Division in the Office of Citizen Exchanges of the Bureau of Educational and Cultural Affairs announces an open competition for the Ukrainian Media Partnership Program. Public and private non-profit organizations meeting the provisions described in IRS regulation 26 CFR 1.501(c) may submit proposals to conduct this program. Grants are subject to availability of funds. Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program cited above is provided through the Fulbright-Hays Act and the FREEDOM Support Act.

Programs and projects must comply with Bureau requirements and guidelines outlined in the Solicitation Package: the Request for Grant Proposals (RFGP) and the Proposal Submission Guidelines (PSI).

Announcement Title and Number

All communications with the Bureau concerning this Request for Grant Proposals (RFGP) should refer to the announcement title “The Ukrainian Media Partnership Program” and reference number ECA/PE/C/EUR-01-77.

Program Information

Overview

The Bureau of Educational and Cultural Affairs (the Bureau) invites applicants to submit proposals for a project to create and foster long-term relationships between selected American media outlets and Ukrainian media outlets of similar size and between the individual professionals that work at both outlets. Within the framework of these partnerships, Ukrainian professionals in print and broadcast media will have the opportunity to interact with US counterparts and to take part in practical training experiences organized by their US partner. This project seeks to promote the development of free and independent Ukrainian media outlets on the assumption that independent media is critical for the further democratic development of Ukraine.

The Bureau would like to see five partnerships developed under this program. Each Ukrainian media outlet should be matched with an appropriate U.S. media outlet for partnership activities. Proposals should demonstrate geographic diversity by including media outlets from throughout Ukraine. While partnerships should primarily include media outlets in regional capitals or larger regional cities, a Kiev media outlet may be included in one of the proposed partnerships. Applicants should propose at least three partnerships in their submission, but are encouraged to propose all five. When only three or four partnerships are proposed by the applicant, the Public Affairs Section in at the American Embassy in Kiev (PAS) will identify the remaining Ukrainian media outlets who will then be partnered with American media outlets already selected by the applicant. Applicants should explain how proposed matches support the program's objectives and why they expect that the partnerships they are proposing will be sustained beyond the life of the grant. The grantee should work closely with the Bureau and PAS throughout the grant period; specific partnerships will be approved by the Bureau and PAS.

Applicants should explain how partnerships will be structured and what activities they will include. The Bureau would like to see each partnership include a combination of trips to the U.S. for Ukrainian participants, trips to Ukraine for American participants, and on-going activities and electronic interactions throughout the grant period. Exchanges in both directions, while meeting the program's objectives, should be tailored to meet the specific needs of the Ukrainian partners. U.S.-based visits for Ukrainian participants should expose Ukrainian media professionals to the American media industry, including business practices, work style, and culture. These visits should also demonstrate the important role journalism plays in an open and democratic society by providing accurate and unbiased news to the public.

U.S. visits for Ukrainian participants should consist primarily of substantive internships and/or job shadowing experiences at U.S. partner media outlets. In addition, visits may include consultations; workshops and/or intensive training on specific topics; and other appropriate activities. The program should emphasize hands-on experience that will build professional expertise and strengthen links between the two partners. The program may include such topics as use of the Internet as a news tool, web design for media outlets, business practices, management, journalistic ethics, the relationship of journalists and editors, and licensing and other legal issues as they pertain to media. The proposal should identify the individuals who will be responsible for the partnership at each U.S. media outlet, and should, wherever possible, identify personnel that will participate from both the U.S. and Ukrainian sides. Roundtable discussions should not be a component of the training activities, but grantees are encouraged, time allowing, to arrange activities that will enable Ukrainian participants to speak to community/business and other groups that are interested in contemporary Ukraine and the Ukrainian media.

For the visits to Ukraine, activities should focus on complementing those activities conducted in the U.S. and increasing the professional capacity of the Ukrainian participants and their colleagues who may not travel to the U.S. This aspect of the program should also strengthen the sustainable relationship between the two outlets.

The Bureau encourages applicants to submit proposals for programs that provide for a minimum of two visits to both the U.S. and Ukraine within each institutional partnership. Applicants are encouraged to propose visits with two or more participants in each direction.

A detailed program timeline for the entire grant period that outlines how components will unfold and complement each other must be included in the proposal.

Applicants should explain the rationale for proposed partnerships as well as for individual participants with particular emphasis on explaining how proposed partnerships will contribute to the sustainability of both the Ukrainian media outlet, and to the partnership. The names of proposed Ukrainian participants must be reviewed and approved in advance of U.S. travel by PAS. The Bureau anticipates that the majority of Ukrainian participants will not have a working-level competency in English language. Applicants should describe the provisions that will be made for these non-English speaking participants.

Guidelines

Programs should begin in January 2002 and last from one to two years. The Executive Summary and Narrative of the proposal should be no more than 20 pages in length, double-spaced, single-sided, and unbound. Programs must comply with J-1 visa regulations. Please refer to the Solicitation Package for further information.

In the Solicitation Package, you will also find forms required by Federal regulations and Bureau policy. Please follow the guidelines; complete and return the necessary forms with the submission. Please refer to the Technical Format and Instructions page in the PSI.

Budget Guidelines

The Bureau anticipates awarding one grant in the amount of $427,000 to support program and administrative costs required to implement this program. Bureau grant guidelines state that organizations that are unable to demonstrate at least four years of experience in conducting international exchange programs are limited to $60,000 in Bureau support. Therefore, organizations with less than four years of experience in conducting international exchanges would not be eligible to apply under this competition. The Bureau encourages applicants to provide maximum levels of cost-sharing and funding from private sources in support of its programs.

Applicants must submit a comprehensive budget for the entire program. There must be a summary budget as well as breakdowns reflecting both administrative and program budgets. Applicants may provide separate sub-budgets for each program component, phase, location, or activity to provide clarification. Allowable costs for the program include the following:

1. International and domestic air fares (per the “Fly America Act”). Including visas, transit costs, and ground transportation costs.

2. Per Diem. Current USG per diem rates may be accessed at: http://www.state.gov/m/a/als/prdm/ (foreign), and http://policyworks.gov/org/main/mt/homepage/mtt/perdiem/travel.shtml (domestic). For activities in Ukraine, however, the Bureau strongly encourages the applicant to budget realistic costs that reflect the local economy.

3. Interpreters. Locally-based interpreters should be hired to assist with training when necessary. Interpreters' salaries should reflect the local economy. Per diem and transportation costs for interpreters should be included in the budget when needed.

4. Consultants. Consultants may be used to provide specialized expertise or to make presentations. Daily honoraria cannot exceed $250 per day. Subcontracting organizations may also be used, in which case the written agreement between the prospective grantee and subcontractor should be included in the proposal. Subcontracts should be itemized in the budget.

5. Room rental. Room rental may not exceed $250 per day. The Bureau encourages the applicant to cost share room rental and meeting space with local partners, when possible.

6. Materials development. The proposal may contain costs to purchase, develop, and translate materials for participants.

7. Equipment. The proposal may contain costs to purchase equipment for Ukraine-based programming such as computers and fax machines. Costs to purchase furniture are not allowed. Equipment costs must be kept to a minimum.

8. Working meal. Only one working meal may be provided during the program. Per capita costs may not exceed $5-8 for a lunch and $14-20 for a dinner, excluding room rental. The number of invited guests may not exceed participants by more than a factor of two-to-one. Interpreters must be included as participants.

9. Administrative costs. Costs necessary for the effective administration of the program may include salaries for grant organization employees, benefits, and other direct and indirect costs per detailed instructions in the Application Package. While this solicitation does not proscribe a rigid ratio of administrative to program costs, the Bureau encourages the applicant to spend no more than twenty-five (25) per cent of the total funds requested from The Bureau on administrative expenses. The proposal should show cost-sharing contributions from the applicant, partners, and other sources.

The Bureau will provide health insurance for Ukrainian participants during U.S.-based program activities. Therefore, applicants do not need to include costs of insurance coverage for these individuals.

Please refer to the Solicitation Package for complete budget guidelines and formatting instructions.

Announcement Title and Number

All correspondence with the Bureau concerning this RFGP should reference the program title and grant reference number ECA/PE/C/EUR-01-77.

FOR FURTHER INFORMATION CONTACT: The Office of Citizen Exchanges, ECA/PE/C/EUR, Room 224, U.S. Department of State, 301 4th Street, SW., Washington, DC 20547, telephone 1-202-619-5327, e-mail hscott@pd.state.gov to request a Solicitation Package. The Solicitation Package contains detailed award criteria, required application forms, specific budget instructions, and standard guidelines for proposal preparation. Please specify Bureau program officer Henry Scott on all other inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at http://exchanges.state.gov/education/RFGPs. Please read all information before downloading.

Deadline for Proposals

All proposal copies must be received at the Bureau of Educational and Cultural Affairs by 5 p.m. Washington, DC time (Eastern Daylight Time) on July 26, 2001. Faxed documents will not be accepted at any time. Documents postmarked the due date but received on a later date will not be accepted. Each applicant must ensure that the proposals are received by the above deadline.

Applicants must follow all instructions in the Solicitation Package. The original and eight (8) copies of the application should be sent to: U.S. Department of State, SA-44, Bureau of Educational and Cultural Affairs, Ref.: ECA/PE/C/EUR-01-77, Program Management, ECA/EX/PM, Room 534, 301 4th Street, SW., Washington, DC 20547.

Diversity, Freedom, and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Affairs Section in Kiev. Eligible proposals will be subject to compliance with Federal and Bureau regulations and guidelines and forwarded to grant panels for advisory review. Proposals may also be reviewed by the Office of the Legal Adviser or by other Department elements. Final funding decisions are at the discretion of the Department of State's Acting Assistant Secretary for Educational and Cultural Affairs. Final technical authority for assistance awards resides with the Bureau's Grants Officer.

Review Criteria

Technically eligible applications will be competitively reviewed according to the criteria stated below. These criteria are not rank ordered and all carry equal weight in the proposal evaluation:

1. Program planning and ability to achieve objectives: A detailed agenda and relevant work plan should demonstrate substantive undertakings and logistical capacity. Agenda and plan should adhere to the program overview and guidelines described above. Objectives should be reasonable, feasible, and flexible. Proposals should clearly demonstrate how the institution will meet the program's objectives and plan.

2. Impact: Proposed programs should strengthen long-term mutual understanding, including maximum sharing of information, and the establishment of long-term institutional and individual linkages.

3. Support of diversity: Proposals should demonstrate substantive support of the Bureau's policy on diversity. Achievable and relevant features should be cited in both program administration (selection of participants, program venue, and program evaluation) and program content (orientation and wrap-up sessions, program meetings, resource materials and follow-up activities).

4. Institutional capacity: Proposals should demonstrate an institutional record of successful exchange programs, including responsible fiscal management and full compliance with all reporting requirements for past Bureau-supported grants as determined by staff of the Grants Office. The Bureau will consider the past performance of prior recipients and the demonstrated potential of new applicants.

5. Follow-on activities: Proposals should provide a plan for continued follow-on activity (without Bureau support) ensuring that supported programs are not isolated events.

6. Project evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

7. Cost-effectiveness: The overhead and administrative components of the proposal, including salaries and honoraria, should be kept as low as possible. All other items should be necessary and appropriate. The Bureau encourages the applicant to spend no more than twenty-five (25) per cent of the total funds requested from The Bureau on administrative expenses. The proposal should show cost-sharing contributions from the applicant, partners, and other sources.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through The funding authority for the program cited above is provided through the Fulbright-Hays Act and the FREEDOM Support Act.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 1, 2001.
Helena Kane Finn,
Acting Assistant Secretary for Educational and Cultural Affairs, U.S. Department of State.

[FR Doc. 01-14508 Filed 6-7-01; 8:45 am]

BILLING CODE 4710-05-U